ENVIRONMENTAL PROTECTION AGENCY

[EPA-HQ-OA-2024-0525; FRL-12397-01-OA]

Historically Black Colleges and Universities and Minority Serving Institutions Advisory Council

AGENCY: Environmental Protection Agency (EPA).

ACTION: Notice of meeting.

SUMMARY: Under the Federal Advisory Committee Act (FACA), the Environmental Protection Agency (EPA) gives notice of a public meeting of the Historically Black Colleges and Universities and Minority Serving Institutions Advisory Council (HBCU-MSI AC). The purpose of this meeting is for the council to provide advice and recommendations to EPA on how to leverage HBCUs and MSIs to help diversify the agency's workforce and nurture the next generation of environmental leaders and ensure that these vital institutions of higher learning have the resources and support to continue to thrive for generations to come. It is part of a comprehensive effort to advance equity in economic and educational opportunities for all Americans while protecting human health and the environment. For additional information about registering to attend the meeting or to provide a public comment, see the “Public Participation” heading of the SUPPLEMENTARY INFORMATION section of this document.

DATES: The HBCU-MSI AC will convene a virtual and in-person public meeting on Wednesday, November 20, 2024, 10 a.m.-4:30 p.m. A public comment period relevant to the HBCU-MSI AC will be considered by the HBCU-MSI AC at the meeting on Wednesday, November 20, 2024 (see SUPPLEMENTARY INFORMATION). Members of the public who wish to participate during the public comment period must register by 11:59 p.m., Eastern Time, Wednesday, November 13, 2024.

ADDRESSES: The virtual and in-person public meeting will be held at EPA Headquarters located at 1200 Pennsylvania Avenue NW, Washington, DC 20460. The meeting will convene on Wednesday, November 20, 2024, from 10 a.m. to 4:30 p.m. EST. Refer to the SUPPLEMENTARY INFORMATION section below for additional information.

You may send comments, identified by Docket ID No. EPA-HQ-OA-2024-0525, by any of the following methods:

• Federal eRulemaking Portal: https://www.regulations.gov/ (our preferred method). Follow the online instructions for submitting comments.

• Email: HBCU-MSI.AC@epa.gov. Include Docket ID No. EPA-HQ-OA-2024-0525 in the subject line of the message.

Instructions: All submissions received must include the Docket ID No. for this public meeting. Comments received may be posted without change to https://www.regulations.gov/, including any personal information provided. Comments must be submitted by 11:59 p.m. Eastern Time on Thursday, December 5, 2024. For detailed instructions on sending comments and additional information on the rulemaking process, see the “Public Participation” heading of the SUPPLEMENTARY INFORMATION section of this document.

Because this public meeting is being held at a U.S. Government facility, individuals planning to attend the public meeting should be prepared to show valid picture identification to the security staff to gain access to the meeting room. Please note that the REAL ID Act, passed by Congress in 2005, established new requirements for entering federal facilities. For purposes of the REAL ID Act, EPA will accept government-issued IDs, including drivers' licenses from the District of Columbia and all states and territories except from American Samoa. If your identification is issued by American Samoa, you must present an additional form of identification to enter the federal building where the public hearing will be held. Acceptable alternative forms of identification include Federal employee badges, passports, enhanced driver's licenses, and military identification cards. For additional information for the status of your state regarding REAL ID, go to: https://www.dhs.gov/real-id-enforcement-brieffrequently-asked-questions. Any objects brought into the building need to fit through the security screening system, such as a purse, laptop bag, or small backpack. Demonstrations will not be allowed on Federal property for security reasons.

FOR FURTHER INFORMATION CONTACT: Rhonda Wright, HBCU-MSI AC Designated Federal Officer; telephone number: (202) 500-1291; email address: wright.rhonda@epa.gov. Additional information about the HBCU-MSI AC is available at https://www.epa.gov/faca/historically-black-colleges-and-universities-and-minority-serving-institutions-advisory.

SUPPLEMENTARY INFORMATION: The Charter of the HBCU-MSI AC (available at https://www.epa.gov/faca/historically-black-colleges-and-universities-and-minority-serving-institutions-advisory) states that the advisory council will provide advice and recommendations to EPA on how to leverage HBCUs and MSIs to help diversify the agency's workforce and nurture the next generation of environmental leaders and ensure that these vital institutions of higher learning have the resources and support to continue to thrive for generations to come. It is part of a comprehensive effort to advance equity in economic and educational opportunities for all Americans while protecting human health and the environment.

I. Public Participation

The meeting is open to the public with limited seating available for in-person attendance and on a first come, first serve basis. Members of the public wishing to participate virtually must contact the Designated Federal Officer (DFO) by 11:59 p.m. on Wednesday, November 13, 2024, to receive a link to the meeting. The Federal Protective Service requires 48-hour notification for guests entering federal government spaces, therefore, it is imperative that the timeline noted is met prior to the meeting.

Individual registration is required for the public meeting. No two individuals can share the same registration link. Information on how to register is located at https://www.epa.gov/faca/historically-black-colleges-and-universities-and-minority-serving-institutions-advisory. Registration for the meeting is available until the scheduled end time of the meeting. Registration to speak during the public comment period will close at 11:59 p.m., ET, on Wednesday, November 13, 2024. When registering, please provide your name, organization, city and state, and email address for follow up. Please also indicate whether you would like to provide public comment during the meeting, or if you are submitting written comments.

A. Written Comments

Submit your comments, identified by Docket ID No. EPA-HQ-OA-2024-0525, at https://www.regulations.gov (our preferred method), or the other methods identified in the ADDRESSES section. Comments must be submitted by 11:59 p.m. Eastern Time on Thursday, December 5, 2024. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

B. Participation Virtually and In-Person Public Meeting

EPA will begin pre-registering speakers for the public meeting upon publication of this document in the Federal Register. To register to speak virtually or in-person, please use the online registration form available at https://www.epa.gov/faca/historically-black-colleges-and-universities-and-minority-serving-institutions-advisory. The last day to pre-register to speak at the public meeting will be at 11:59 p.m., ET, on Wednesday, November 13, 2024.

EPA will make every effort to follow the schedule as closely as possible on the day of the public meeting; however, please plan for the meeting to run either ahead of schedule or behind schedule.

Individuals or groups making remarks during the public comment period will be limited to two (2)-three (3) minutes. Please be prepared to briefly describe your issue and your recommendation relevant to the current charges, topics, and questions under consideration by the HBCU-MSI AC. EPA also recommends submitting the text of your oral comments as written comments to the rulemaking docket.

Written statements and supporting information submitted during the comment period will be considered with the same weight as oral comments and supporting information presented at the public meeting.

Please note that any updates made to any aspect of the public meeting are posted online at https://www.epa.gov/faca/historically-black-colleges-and-universities-and-minority-serving-institutions-advisory. While EPA expects the public meeting to go forward as set forth above, please monitor our website. EPA does not intend to publish a document in the Federal Register announcing updates.

C. Information About Services for Individuals With Disabilities or Requiring English Language Translation Assistance

To ensure adequate time for processing, please make requests accessibility and/or accommodations for individuals with disabilities at least five (5) business days prior to the meeting. All requests should be sent to the email listed in the FOR FURTHER INFORMATION CONTACT section.

Kathryn Avivah Jakob,
Director, Office of Public Engagement and Environmental Education, Office of the Administrator.

[FR Doc. 2024-25682 Filed 11-4-24; 8:45 am]

BILLING CODE 6560-50-P